DEPARTMENT OF TRANSPORTATION

Federal Aviation Administration

14 CFR Part 39

[Docket No. FAA-2010-1039; Directorate Identifier 2010-NM-002-AD; Amendment 39-16612; AD 2011-05-03]

RIN 2120-AA64

Airworthiness Directives; Bombardier, Inc. Model CL-600-2B19 (Regional Jet Series 100 & 440) Airplanes

AGENCY: Federal Aviation Administration (FAA), Department of Transportation (DOT).

ACTION: Final rule.

SUMMARY: We are superseding an existing airworthiness directive (AD) that applies to the products listed above. This AD results from mandatory continuing airworthiness information (MCAI) originated by an aviation authority of another country to identify and correct an unsafe condition on an aviation product. The MCAI describes the unsafe condition as:

There has been numerous reported failures of the Regional Jet engine TCGB [throttle control gearbox] P/Ns: 2100140-003, 2100140-005 & 2100140-007. Some of these failures have resulted in in-flight engine shutdowns. Post incident investigations revealed that excessive wear within the engine TCGB could alter the rigging position or cause the throttle to jam. With the rigging position altered, movement of the throttle lever towards the idle position can result in throttle moving too close to the fuel shut-off position, which potentially, can cause the engine to flame out.

* * * * *

We are issuing this AD to require actions to correct the unsafe condition on these products.

DATES: This AD becomes effective March 31, 2011.

The Director of the Federal Register approved the incorporation by reference of certain publications listed in this AD as of March 31, 2011.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Rocco Viselli, Senior Aviation Safety Engineer, Avionic & Flight Test Branch, ANE-172, FAA, New York Aircraft Certification Office, 1600 Stewart Avenue, Suite 410, Westbury, New York 11590; telephone (516) 228-7331; fax (516) 794-5531; e-mail Rocco.Viselli@faa.gov.

SUPPLEMENTARY INFORMATION:

Discussion

We issued a notice of proposed rulemaking (NPRM) to amend 14 CFR part 39 to include an AD that would apply to the specified products. That NPRM was published in the Federal Register on October 21, 2010 (75 FR 64960), and proposed to supersede AD 2005-06-04, Amendment 39-14012 (70 FR 12963, March 17, 2005). That NPRM proposed to correct an unsafe condition for the specified products.

Since we issued AD 2005-06-04, the inspection for the throttle control gearbox (TCGB) required by that AD has been transcribed in a new certification maintenance requirement (CMR) task. This AD mandates the incorporation of new CMR Task C76-11-127-01 into the Bombardier CL-600-2B19 Maintenance Requirements Manual (MRM) as introduced by Bombardier Temporary Revision 2A-47. Transport Canada Civil Aviation (TCCA), which is the aviation authority for Canada, has issued Canadian Airworthiness Directive CF-2004-01R2, dated September 29, 2009 (referred to after this as “the MCAI”), to correct an unsafe condition for the specified products. The MCAI states:

There has been numerous reported failures of the Regional Jet engine TCGB [throttle control gearbox] P/Ns: 2100140-003, 2100140-005 & 2100140-007. Some of these failures have resulted in in-flight engine shutdowns. Post incident investigations revealed that excessive wear within the engine TCGB could alter the rigging position or cause the throttle to jam. With the rigging position altered, movement of the throttle lever towards the idle position can result in throttle moving too close to the fuel shut-off position, which potentially, can cause the engine to flame out.

Bombardier issued Service Bulletin (SB) 601R-76-019 dated 21 August 2003, to introduce an inspection of, and if required, replacement of the throttle control gearbox with a serviceable unit. AD CF-2004-01 was originally issued to mandate the subject inspection requirement as per SB 601R-76-019 and subsequent revisions.

The subject TCGB inspection requirements mandated as per the earlier versions of this [Canadian] AD, are now transcribed in a new Certification Maintenance Requirement (CMR) task. This revision is issued to mandate the incorporation of the new CMR task [Task C76-11-127-01] into the CL-600-2B19 Maintenance Requirements Manual (MRM), as introduced by the MRM Temporary Revision (TR) 2A-47.

You may obtain further information by examining the MCAI in the AD docket.

Relevant Service Information

The NPRM referred to Bombardier Service Bulletin 601R-76-019, Revision C, dated July 5, 2007, as the appropriate source of service information for accomplishing certain proposed actions. Bombardier Inc. has issued Service Bulletin 601R-76-019, Revision D, dated September 23, 2010. This service bulletin does not add any work for the affected airplanes. We have revised this final rule to refer to Bombardier Service Bulletin 601R-76-019, Revision D, dated September 23, 2010, as the appropriate source of service information for accomplishing the applicable actions.

We have added new paragraph (m) to this final rule to give credit to operators for accomplishing the applicable actions before the effective date of this AD in accordance with Bombardier Service Bulletin 601R-76-019, Revision C, dated July 5, 2007. We have re-identified subsequent paragraphs accordingly.

The NPRM also referred to Bombardier Temporary Revision 2A-47, dated May 27, 2009, to Appendix A—Certification Maintenance Requirements, of Part 2 of the Bombardier CL-600-2B19 Maintenance Requirements Manual for incorporating new CMR Task C76-11-127-01 into the maintenance program. Bombardier Inc. has issued Temporary Revision 2A-53, dated December 15, 2010, to Appendix A—Certification Maintenance Requirements, of Part 2 of the Bombardier CL-600-2B19 Maintenance Requirements Manual. Bombardier Temporary Revision 2A-53, dated December 15, 2010, was issued to revise the task description of CMR Task C76-11-127-01. We have revised this final rule to allow operators to use either Bombardier Temporary Revision 2A-47, dated May 27, 2009; or Bombardier Temporary Revision 2A-53, dated December 15, 2010; for revising the maintenance program to include CMR Task C76-11-127-01.

The actions described in this service information are intended to correct the unsafe condition identified in the MCAI.

Comments

We gave the public the opportunity to participate in developing this AD. We received no comments on the NPRM or on the determination of the cost to the public.

Conclusion

We reviewed the available data and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

We estimate that this AD will affect about 638 products of U.S. registry.

The actions that are required by AD 2005-06-04 and retained in this AD take about 7 work-hours per product, at an average labor rate of $85 per work-hour. Based on these figures, the estimated cost of the currently required actions is $595 per product.

We estimate that it will take about 1 work-hour per product to comply with the new basic requirements of this AD. The average labor rate is $85 per work-hour. Based on these figures, we estimate the cost of this AD to the U.S. operators to be $54,230, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14012 (70 FR 12963, March 17, 2005) and adding the following new AD:

2011-05-03 Bombardier, Inc.: Amendment 39-16612. Docket No. FAA-2010-1039; Directorate Identifier 2010-NM-002-AD.

Effective Date

(a) This airworthiness directive (AD) becomes effective March 31, 2011.

Affected ADs

(b) The AD supersedes AD 2005-06-04, Amendment 39-14012.

Applicability

(c) This AD applies to Bombardier, Inc. Model CL-600-2B19 (Regional Jet Series 100 & 440) airplanes, certificated in any category, having an engine throttle control gearbox (TCGB) with part number 2100140-003, 2100140-005, or 2100140-007 installed.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (n)(1) of this AD. The request should include a description of changes to the required inspections that will ensure the continued operational safety of the airplane.

Subject

(d) Air Transport Association (ATA) of America Code 76: Engine Controls.

Reason

(e) The mandatory continuing airworthiness information (MCAI) states:

There has been numerous reported failures of the Regional Jet engine TCGB P/Ns: 2100140-003, 2100140-005 & 2100140-007. Some of these failures have resulted in in-flight engine shutdowns. Post incident investigations revealed that excessive wear within the engine TCGB could alter the rigging position or cause the throttle to jam. With the rigging position altered, movement of the throttle lever towards the idle position can result in throttle moving too close to the fuel shut-off position, which potentially, can cause the engine to flame out.

Bombardier issued Service Bulletin (SB) 601R-76-019 dated 21 August 2003, to introduce an inspection of, and if required, replacement of the throttle control gearbox with a serviceable unit. AD CF-2004-01 was originally issued to mandate the subject inspection requirement as per SB 601R-76-019 and subsequent revisions.

The subject TCGB inspection requirements mandated as per the earlier versions of this [Canadian] AD, are now transcribed in a new Certification Maintenance Requirement (CMR) task. This revision is issued to mandate the incorporation of the new CMR task [Task C76-11-127-01] into the CL-600-2B19 Maintenance Requirements Manual (MRM), as introduced by the MRM Temporary Revision (TR) 2A-47.

Compliance

(f) You are responsible for having the actions required by this AD performed within the compliance times specified, unless the actions have already been done.

Restatement of Requirements of AD 2005-06-04, With New Service Information

Inspection

(g) For airplanes having serial numbers (S/Ns) 7003 through 7067 inclusive, and 7069 and subsequent: At the applicable time specified in paragraph (g)(1) or (g)(2) of this AD, do a detailed inspection for wear of the left and right engine throttle control gearboxes having part number (P/N) 2100140-005 or 2100140-007 by doing all the actions per Part A, paragraphs A., B., and C.(1) through C.(4), of the Accomplishment Instructions of Bombardier Service Bulletin 601R-76-019, dated August 21, 2003; Revision `A,' dated February 19, 2004; Revision B, dated February 16, 2005; Revision C, dated July 5, 2007; or Revision D, dated September 23, 2010. If the wear value is the same as that specified in Part A, paragraph B.(8), of the Accomplishment Instructions of Bombardier Service Bulletin 601R-76-019, dated August 21, 2003; Revision `A,' dated February 19, 2004; Revision B, dated February 16, 2005; Revision C, dated July 5, 2007; or Revision D, dated September 23, 2010; repeat the inspection thereafter at intervals not to exceed 1,000 flight hours. As of the effective date of this AD, only Bombardier Service Bulletin 601R-76-019, Revision D, dated September 23, 2010, may be used. Doing the inspection required by paragraph (k) of this AD terminates the requirement in this paragraph.

(1) For airplanes having S/Ns 7003 through 7067 inclusive and 7069 through 7999 inclusive: Within 1,000 flight hours or 90 days after March 25, 2004 (the effective date of AD 2004-05-12), whichever is later.

(2) For airplanes having S/Ns 8000 and subsequent: Within 1,000 flight hours or 90 days after April 1, 2005 (the effective date of AD 2005-06-04), whichever is later.

Note 2: For the purposes of this AD, a detailed inspection is: “An intensive visual examination of a specific structural area, system, installation, or assembly to detect damage, failure, or irregularity. Available lighting is normally supplemented with a direct source of good lighting at an intensity deemed appropriate by the inspector. Inspection aids such as mirror, magnifying lenses, etc., may be used. Surface cleaning and elaborate access procedures may be required.”

Corrective Action

(h) If the wear value found during any inspection required by paragraph (g) of this AD is not the same as that specified in Part A, paragraph B.(8), of the Accomplishment Instructions of Bombardier Service Bulletin 601R-76-019, dated August 21, 2003; Revision `A,' dated February 19, 2004; Revision B, dated February 16, 2005; Revision C, dated July 5, 2007; or Revision D, dated September 23, 2010: Do the applicable actions required by paragraph (h)(1), (h)(2), or (h)(3) of this AD, at the time specified, per the Accomplishment Instructions of Bombardier Service Bulletin 601R-76-019, dated August 21, 2003; Revision `A,' dated February 19, 2004; Revision B, dated February 16, 2005; Revision C, dated July 5, 2007; or Revision D, dated September 23, 2010. Repeat the inspection required by paragraph (g) of this AD thereafter at intervals not to exceed 1,000 flight hours. As of the effective date of this AD, only Bombardier Service Bulletin 601R-76-019, Revision D, dated September 23, 2010, may be used. Doing the inspection required by paragraph (k) of this AD terminates the inspection requirements of this paragraph.

(1) If the wear value on one or both of the gearboxes is the same as that specified in Part A, paragraph B.(5), of the Accomplishment Instructions of Bombardier Service Bulletin 601R-76-019, dated August 21, 2003; Revision `A,' dated February 19, 2004; Revision B, dated February 16, 2005; Revision C, dated July 5, 2007; or Revision D, dated September 23, 2010: Before further flight, replace the affected gearbox with a new or serviceable gearbox, by doing all the actions per Part B, paragraphs D. through F.(7), of the Accomplishment Instructions of Bombardier Service Bulletin 601R-76-019, dated August 21, 2003; Revision `A,' dated February 19, 2004; Revision B, dated February 16, 2005; Revision C, dated July 5, 2007; or Revision D, dated September 23, 2010. As of the effective date of this AD, only Bombardier Service Bulletin 601R-76-019, Revision D, dated September 23, 2010, may be used.

(2) If the wear value on both the left and right gearboxes is the same as that specified in Part A, paragraph B.(6), of Bombardier Service Bulletin 601R-76-019, dated August 21, 2003; Revision `A,' dated February 19, 2004; Revision B, dated February 16, 2005; Revision C, dated July 5, 2007; or Revision D, dated September 23, 2010: Before further flight, replace the gearbox having the higher wear value with a new or serviceable gearbox, by doing all the actions per Part B, paragraphs D. through F.(7), of the Accomplishment Instructions of Bombardier Service Bulletin 601R-76-019, dated August 21, 2003; Revision `A,' dated February 19, 2004; Revision B, dated February 16, 2005; Revision C, dated July 5, 2007; or Revision D, dated September 23, 2010. Within 1,000 flight hours after doing the replacement, replace the other gearbox. As of the effective date of this AD, only Bombardier Service Bulletin 601R-76-019, Revision D, dated September 23, 2010, may be used.

(3) If the wear value on only one gearbox is the same as that specified in Part A, paragraph B.(7), and the wear value on the other gearbox is the same as that specified in Part A, paragraph B.(8), of the Accomplishment Instructions of Bombardier Service Bulletin 601R-76-019, dated August 21, 2003; Revision `A,' dated February 19, 2004; Revision B, dated February 16, 2005; Revision C, dated July 5, 2007; or Revision D, dated September 23, 2010: Within 1,000 flight hours after the inspection, replace the gearbox with the wear value that is the same as that specified in Part A, paragraph B.(7), with a new or serviceable gearbox. Do the replacement by doing all the actions per Part B, paragraphs D. through F.(7), of the Accomplishment Instructions of Bombardier Service Bulletin 601R-76-019, dated August 21, 2003; Revision `A,' dated February 19, 2004; Revision B, dated February 16, 2005; Revision C, dated July 5, 2007; or Revision D, dated September 23, 2010. As of the effective date of this AD, only Bombardier Service Bulletin 601R-76-019, Revision D, dated September 23, 2010, may be used.

Additional Guidance

Note 3: Bombardier Service Bulletin 601R-76-019, dated August 21, 2003; Revision `A,' dated February 19, 2004; Revision B, dated February 16, 2005; Revision C, dated July 5, 2007; and Revision D, dated September 23, 2010; reference Trans Digm, Inc., AeroControlex Group Service Bulletin 2100140-007-76-04, dated July 22, 2003, as an additional source of guidance for accomplishment of the inspections and replacement.

Reporting Requirement

(i) At the applicable time specified in paragraph (i)(1) or (i)(2) of this AD, submit a report of gearbox wear to Bombardier Aerospace, In-Service Engineering (Engine Group); fax (514) 855-7708. The report must include the airplane serial number, the number of flight hours on the airplane, and the number of flight hours on each gearbox (if different than the number of flight hours on the airplane).

(1) For Bombardier Model CL-600-2B19 (Regional Jet Series 100 & 440) airplanes, serial numbers 7003 through 7067 inclusive, and 7069 through 7999 inclusive: Submit a report within 10 days after doing the inspection required by paragraph (g) of this AD, or within 10 days after March 25, 2004, whichever is later.

(2) For Bombardier Model CL-600-2B19 (Regional Jet Series 100 & 440) airplanes, serial numbers 8000 and subsequent: Submit a report within 10 days after doing the inspection required by paragraph (g) of this AD, or within 10 days after April 1, 2005 (the effective date of AD 2005-06-04), whichever is later.

New Requirements of This AD

Actions

(j) For all airplanes: Within 30 days after the effective date of this AD, revise the maintenance program to include new CMR Task C76-11-127-01 specified in Bombardier Temporary Revision 2A-47, dated May 27, 2009; or Bombardier Temporary Revision 2A-53, dated December 15, 2010; to Appendix A—Certification Maintenance Requirements, of Part 2 of the Bombardier CL-600-2B19 Maintenance Requirements Manual.

Note 4: The actions required by paragraph (j) of this AD may be done by inserting a copy of Bombardier Temporary Revision 2A-47, dated May 27, 2009; or Bombardier Temporary Revision 2A-53, dated December 15, 2010; into the AWL section of Appendix A—Certification Maintenance Requirements, of Part 2 of the Bombardier CL-600-2B19 Maintenance Requirements Manual. When this temporary revision has been included in the limitation section of the general revisions of the document, the general revisions may be inserted in the document, provided the relevant information (CMR Task C76-11-127-01) in the general revision is identical to that in Bombardier Temporary Revision 2A-47, dated May 27, 2009; or Bombardier Temporary Revision 2A-53, dated December 15, 2010.

(k) For CMR Task C76-11-127-01 identified in Bombardier Temporary Revision 2A-47, dated May 27, 2009; or Bombardier Temporary Revision 2A-53, dated December 15, 2010; do the initial inspection within 1,000 flight hours after the effective date of this AD. Doing the initial inspection required by this paragraph terminates the requirements of paragraph (g) of this AD and the inspection requirements of paragraph (h) of this AD.

(l) Thereafter, except as provided by paragraph (n) of this AD, no alternative intervals may be approved for CMR Task C76-11-127-01 identified in Bombardier Temporary Revision 2A-47, dated May 27, 2009; or Bombardier Temporary Revision 2A-53, dated December 15, 2010; which require a special detailed inspection of the throttle control gearbox for gear and rack teeth wear.

(m) Accomplishment of the actions specified in paragraphs (g) and (h) of this AD before the effective date of this AD according to Bombardier Service Bulletin 601R-76-019, Revision C, dated July 5, 2007, is acceptable for compliance with the corresponding requirements of this AD.

FAA AD Differences

Note 5: This AD differs from the MCAI and/or service information as follows: No differences.

Other FAA AD Provisions

(n) The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, New York 11590; telephone 516-228-7300; fax 516-794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave., SW., Washington, DC 20591, Attn: Information Collection Clearance Officer, AES-200.

Related Information

(o) Refer to MCAI Canadian Airworthiness Directive CF-2004-01R2, dated September 29, 2009; Bombardier Service Bulletin 601R-76-019, Revision D, dated September 23, 2010; and Bombardier Temporary Revision 2A-47, dated May 27, 2009, or Bombardier Temporary Revision 2A-53, dated December 15, 2010, to Appendix A—Certification Maintenance Requirements, of Part 2 of the Bombardier CL-600-2B19 Maintenance Requirements Manual; for related information.

Material Incorporated by Reference

(p) You must use Bombardier Service Bulletin 601R-76-019, Revision D, dated September 23, 2010; and Bombardier Temporary Revision 2A-47, dated May 27, 2009, or Bombardier Temporary Revision 2A-53, dated December 15, 2010, to Appendix A—Certification Maintenance Requirements, of Part 2 of the Bombardier CL-600-2B19 Maintenance Requirements Manual; as applicable; to do the actions required by this AD, unless the AD specifies otherwise.

(1) The Director of the Federal Register approved the incorporation by reference of this service information under 5 U.S.C. 552(a) and 1 CFR part 51.

(2) For service information identified in this AD, contact Bombardier, Inc., 400 Côte-Vertu Road West, Dorval, Québec H4S 1Y9, Canada; telephone 514-855-5000; fax 514-855-7401; e-mail thd.crj@aero.bombardier.com; Internet http://www.bombardier.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on February 14, 2011.
Kalene C. Yanamura,
Acting Manager, Transport Airplane Directorate, Aircraft Certification Service.

[FR Doc. 2011-4012 Filed 2-23-11; 8:45 am]

BILLING CODE 4910-13-P